DEPARTMENT OF ENERGY

Notice of Intent To Prepare an Environmental Impact Statement and To Conduct Public Scoping Meetings, and Notice of Floodplain and Wetlands Involvement for Remediation of the Moab Uranium Mill Tailings Site in Grand County, UT

AGENCY: Department of Energy.

ACTION: Notice of intent to prepare an environmental impact statement and to conduct public scoping meetings.

SUMMARY: Pursuant to the National Environmental Policy Act of 1969 (NEPA) and the Department of Energy (DOE) NEPA Implementing Procedures (10 CFR part 1021), DOE announces its intent to prepare an Environmental Impact Statement (EIS) to assess the potential environmental impacts of actions that would remediate contaminated soils, tailings, and ground water at the Moab Uranium Mill Tailings Site (Moab Project Site), Grand County, Utah, and contaminated soils in adjacent public and private properties (vicinity properties) near the Moab Project Site. The Moab Project Site is a former uranium-ore processing facility. In October 2000, the Floyd D. Spence National Defense Authorization Act for Fiscal Year (FY) 2001 gave DOE responsibility for remediation of the Moab Project Site. The Act also mandated that the Moab Project Site be remediated in accordance with Title I of the Uranium Mill Tailings Radiation Control Act of 1978, as amended (UMTRCA) (42 U.S.C. 7901 et seq.). UMTRCA includes vicinity properties as part of the project site. As part of the evaluation of reasonable alternatives, DOE will consider both on-site and off-site remediation and disposal of tailings and contaminated soils. Off-site disposal alternatives currently include four sites in Utah: Klondike Flats, near Moab; Crescent Junction, near the town of Crescent Junction and about 20 miles east of the town of Green River; the White Mesa Mill near the town of Blanding; and the East Carbon Development Corporation (ECDC) site, near East Carbon.

Because some actions that DOE could select would take place in or near wetlands or floodplains located on the Moab Project Site, the EIS will include a floodplain and wetlands assessment and a floodplain statement of findings in accordance with DOE regulations for compliance with floodplain and wetlands environmental review requirements (10 CFR part 1022). Additionally, because of a potential that current contamination could be impacting critical habitat for threatened and endangered fish, or that remediation measures could result in such impacts, a biological assessment under the U.S. Fish and Wildlife's implementing procedures for the Endangered Species Act (50 CFR part 402) will be prepared.

DOE invites Indian Tribes, individuals, organizations, and agencies to present oral or written comments concerning the scope of the EIS, and the floodplain, wetlands, and biological assessment(s). DOE also invites Indian Tribes and federal, state, and local governmental agencies and organizations with jurisdiction by law or special expertise to participate as cooperating agencies in preparing this EIS.

DATES: The public scoping period starts with the publication of this Notice in the Federal Register and will continue until February 14, 2003. DOE will consider all comments received or postmarked by that date in defining the scope of this EIS. Comments received or postmarked after that date will be considered to the extent practicable. Public scoping meetings will provide the public with an opportunity to present comments, ask questions, and discuss concerns regarding the EIS with DOE officials. The locations, dates, and times for the public scoping meetings are as follows:

1. January 21, 2003, Green River, Utah—City Hall, 240 East Main Street, 6 p.m. to 10 p.m.

2. January 22, 2003, Moab, Utah—Moab Valley Inn, 711 South Main Street, 6 p.m. to 10 p.m.

3. January 23, 2003 Meetings

a. White Mesa, Utah—White Mesa Ute Tribal Meeting, White Mesa Ute Recreation Center, 9 a.m. to 11 a.m.

b. Blanding, Utah—Navajo Nation Meeting, College of Eastern Utah Arts and Events Center, 639 W 100 South, 2 p.m. to 4 p.m.

c. Blanding Utah—Public Meeting—College of Eastern Utah Arts and Events Center, 639 W 100 South, 6 p.m. to 10 p.m.

4. January 28, 2003, East Carbon—Old City Hall, 200 Park Place, 6 p.m. to 10 p.m.

DOE will publish additional notices of the dates, times, and locations of the scoping meetings in local newspapers and other media in advance of the scheduled meetings. Any necessary changes will be announced in the local media.

ADDRESSES: Written comments or suggestions concerning the scope of the EIS, requests for more information on the EIS and the public scoping process, and requests to participate as a cooperating agency should be directed to Mr. Joel Berwick, Moab Project Manager, U.S. Department of Energy Grand Junction Office, 2597 B ¾ Road, Grand Junction, Colorado 81503; facsimile: (970) 248-6023.

In addition to providing comments at the public scoping meetings, interested parties are invited to record their comments, ask questions concerning the EIS, or request to be placed on the EIS mailing list or document distribution list by leaving a message on the toll-free EIS Hotline 1-800-637-4575, or e-mail at moabcomments@gjo.doe.com. The hotline will have instructions on how to record comments and requests.

FOR FURTHER INFORMATION CONTACT: For information on the Moab EIS, please contact: Mr. Joel Berwick, Moab Project Manager, U.S. Department of Energy, Grand Junction Office, 2597 B ¾ Road, Grand Junction, Colorado 81503; Phone: (970) 248-6020. For general information regarding the DOE NEPA process please contact: Ms. Carol Borgstrom, Director, Office of NEPA Policy and Compliance (EH-42), U.S. Department of Energy, 1000 Independence Avenue, SW., Washington, DC 20585; Phone: (202) 586-4600, or leave a message at 1-800-472-2756; NEPA Web site: http://tis.eh.doe.gov/nepa/. Additional information about the Moab Project can be found at http://www.gjo.doe.gov/moab/moab.html.

SUPPLEMENTARY INFORMATION:

Background and Need for Agency Action

The Moab Project Site is located about 3 miles northwest of the City of Moab in Grand County, Utah, and lies on the west bank of the Colorado River at the confluence with Moab Wash. The site encompasses approximately 400 acres; a 130-acre uranium mill tailings pile occupies much of the western portion of the site. The Moab Project Site is bordered on the north and southwest by steep sandstone cliffs. The Colorado River forms the southeastern boundary of the site. U.S. Highway 191 parallels the northern site boundary, and State Highway 279 transects the southwestern perimeter of the property. Arches National Park has a common property boundary with the Moab Project Site on the north side of U.S. Highway 191, and the park entrance is located less than 1 mile northwest of the site. Canyonlands National Park is located about 12 miles to the southwest.

Originally, the property and facilities were owned by the Uranium Reduction Company (URC) and were regulated by the U.S. Atomic Energy Commission, a statutory predecessor agency of DOE. In 1956, URC began operation of the mill. In 1962, the Atlas Minerals Corporation acquired URC and operated the Site as the Atlas Mill Site until operations ceased in 1984. Between 1956 and 1984, uranium mill tailings were disposed of on-site in an unlined impoundment. Decommissioning of the mill began in 1988, and an interim cover was placed on the tailings impoundment between 1989 and 1995. In 1996, Atlas proposed to reclaim the tailings pile for permanent disposal in its current location. Atlas declared bankruptcy in 1998, and subsequently the U.S. Nuclear Regulatory Commission (NRC) appointed PricewaterhouseCoopers as Trustee of the Moab Mill Reclamation Trust and licensee for the Site. In 1999, prior to the transfer of the Site to DOE, NRC completed the Final Environmental Impact Statement (FEIS) Related to Reclamation of the Uranium Mill Tailings at the Atlas Site, Moab, Utah (NUREG-1531), which focused on surface remediation and cap-in-place. DOE will use information from the NRC EIS as appropriate in preparing this EIS.

In October 2000, Congress passed the Floyd D. Spence National Defense Authorization Act for FY 2001 that authorized transfer of the title and responsibility for cleanup of the site to DOE and required that the Moab Project Site undergo remediation in accordance with Title I of UMTRCA. The Act directed that the National Academy of Sciences (NAS) provide assistance to DOE in evaluating costs, benefits, and risks associated with remediation alternatives. DOE completed a preliminary draft Plan for Remediation that evaluated cap-in place and a generic off-site relocation alternative. The preliminary draft Plan identified several areas where the existing technical data were not conclusive, summarized existing information about the two alternatives, and was submitted to the NAS on October 30, 2001. After reviewing the preliminary draft Plan, the NAS provided a list of recommendations on June 11, 2002, for DOE to consider during its assessment of remediation alternatives for the Moab Project Site. DOE does not intend to finalize a separate Plan for Remediation, but instead will incorporate information from the Plan with the EIS, and will use the EIS process to support its decisionmaking for the remediation of the Moab Site. DOE has incorporated the NAS recommendations into its internal scoping of this EIS and is committed to addressing the NAS recommendations, in either the EIS or supporting documents.

During its years of operation, the mill accumulated approximately 11.9 million tons of uranium mill tailings that contain contaminants at levels above the Environmental Protection Agency (EPA) standards in 40 CFR part 192, “Health and Environmental Protection Standards for Uranium and Thorium Mill Tailings.” The tailings are located in a 130-acre tailings pile, which averages 94 feet above the Colorado River terrace and is located about 750 feet from the Colorado River. Surveys indicate that soils outside the pile also contain radiological contaminants at concentrations above the EPA standards.

Ground water in the shallow alluvium at the site has also been contaminated by uranium milling operations. Ground water in the alluvium consists of a relatively thin zone of fresh water overlying a thicker brine zone. Preliminary investigations indicate that the major constituents of potential concern may be ammonia, arsenic, manganese, molybdenum, nitrate, selenium, sulfate, and uranium. Although final decisions for site and ground water remediation will not be made before the record of decision (ROD) that will consider the analyses provided in this EIS and other factors, and our subsequent proposals to Congress for implementing funding, DOE will be implementing actions such as ground water restoration in the interim to mitigate the impacts of ground water contamination.

The Colorado River adjacent to the site has also been negatively affected from site-related contamination, mostly due to ground water discharge. The primary site-related contaminant in surface water is ammonia, which potentially affects endangered fish species in the river. Concentrations of other constituents, particularly uranium and manganese, are also elevated in surface water samples.

Based on experience at other uranium milling sites, DOE anticipates that there may be contamination in areas adjacent to the milling site resulting from either historic off-site usage of the mill tailings for fill or construction material, wind blown transport of tailings from the milling site, or from the accumulation of residual stock of unprocessed ores or low-grade materials at off-site locations prior to processing at the mill. Under UMTRCA, these off-site properties are referred to as “vicinity properties,” defined to include any properties in the vicinity of the milling site contaminated with residual radioactive materials derived from the milling site. UMTRCA considers vicinity properties part of the milling site for purposes of cleanup. The EIS will address the impacts that would result from the remediation of any vicinity properties and include contaminated materials from vicinity properties in the assessment of both on-site and off-site disposal alternatives.

Proposed Action and Alternatives

DOE proposes to select remediation alternatives for contaminated surface materials (tailings pile, surrounding soils, and vicinity properties) and ground water. The range of reasonable surface remediation alternatives includes both on-site and off-site disposal of the tailings and impacted soils. As a result, the analyses of ground water remediation alternatives in this EIS will include site conditions under both on-site and off-site surface remediation alternatives. The remediation alternatives being evaluated are described below under the No Action Alternative, Surface Actions, and Ground Water Actions.

No Action Alternative

Under the No Action Alternative, DOE would not remediate the uranium mill tailings, surface soil contamination, vicinity properties, or the contaminated ground water. This alternative is included to provide a basis for comparison to the action alternatives described above as required by NEPA regulations (40 CFR 1502.14(d)).

Surface Actions

Both on-site disposal and off-site disposal alternatives will be considered for the tailings pile, surrounding soils, and vicinity properties. On-site disposal would involve depositing contaminated soils on the tailings pile and capping the tailings pile in place. The off-site disposal alternatives would remove the tailings and contaminated soils and dispose of these materials at one of several locations within the region. The following off-site disposal locations, described below, will be assessed under the off-site disposal alternatives: Klondike Flats, Crescent Junction, White Mesa Mill, and the East Carbon Development Corporation (ECDC) site. Under the off-site disposal alternatives, three transportation modes will be evaluated: truck, rail, and slurry pipeline for some or all of the off-site disposal locations.

For all on-site disposal and off-site disposal alternatives, DOE must demonstrate that the combination of engineered controls (e.g., cover and liner systems), institutional controls, and custodial care performed as part of the Long-Term Surveillance and Maintenance Program under UMTRCA, would ensure long-term protection of public health and safety and the environment.

On-Site Disposal Alternative

The on-site disposal alternative would consolidate all contaminated soils and stabilize the 130-acre tailings pile in place in an above-grade disposal cell at its current location on the Moab Project Site. A final cover would be designed to meet the requirements of EPA's standards (40 CFR part 192), utilizing DOE's experience with other uranium mill tailings disposal cell covers. Flood protection would be constructed along the base of the pile and cover materials for radon attenuation and erosion protection would be brought to the site from suitable borrow areas. The final design would meet the requirements of disposal cells under EPA (40 CFR part 92) and NRC (10 CFR part 40, Appendix A) standards.

Off-Site Disposal Alternatives

DOE is considering several off-site disposal alternatives. For these alternatives, DOE would remove the tailings pile and contaminated soils from the Moab Project Site and transport these materials to another location for disposal. To date, DOE has considered numerous off-site disposal locations and has determined that the range of reasonable sites within the region around Moab can be represented by four sites. The Klondike Flats and Crescent Junction sites represent locations where new disposal cells could be constructed; the White Mesa Mill and the ECDC sites represent existing facilities that could receive these materials.

Klondike Flats. Klondike Flats is a low-lying plateau about 17 miles north of Moab in Grand County, Utah. The Klondike site consists of undeveloped land administered by the Bureau of Land Management (BLM) interspersed with Utah State Lands. The eastern Klondike site boundary is adjacent to U.S. Highway 191 and is north of the privately-owned Canyonlands Field Airport property.

Crescent Junction. The Crescent Junction site is approximately 28 miles northwest of Moab and 30 miles east of Green River, just northeast of Crescent Junction in Grand County, Utah, on the north side of Interstate 70. The site also consists of undeveloped land administered by the BLM interspersed with Utah State Lands.

White Mesa Mill. The White Mesa Mill is located approximately 85 miles south of the Moab Project Site and 6 miles from Blanding in San Juan County, Utah. The mill, which is owned by the International Uranium Corporation, processes uranium-bearing materials and disposes of them on-site in lined ponds. It has been in operation since 1980. Although the facility has an NRC license to receive, process, and permanently dispose of uranium-bearing material, it would need a license amendment before it could accept material from the Moab Project Site. The mill has the potential to process materials from the Moab Project Site to extract valuable constituents and then dispose of the residues on-site or dispose of the materials without processing.

ECDC Site. The ECDC facility is located in East Carbon, Carbon County, Utah, and is approximately 100 miles northwest of the Moab Project Site. The site is leased by ECDC from the City of East Carbon. The estimated total lifetime disposal capacity of the facility is 300 million cubic yards. The facility is operating under a May 1990 Solid Waste Plan (permit) issued by the Utah Bureau of Solid and Hazardous Waste, which subsequently became the Utah Department of Environmental Quality. Wastes accepted under the permit include household waste, ash from Resource Conservation and Recovery Act facilities, mining wastes, and petroleum-contaminated media. As with the White Mesa site, permitting and/or licensing issues would have to be resolved before the material from the Moab Project Site could be disposed of at ECDC.

Off-Site Transportation Modes

Under the off-site disposal alternatives, three transportation modes will be evaluated: truck, rail, and slurry pipeline for some or all of the off-site disposal locations.

Truck Transport. Truck tractors hauling two bottom-dump trailers would likely be used. The trucks would use U.S. Highway 191 as the main route to the disposal site alternatives, with some usage of Interstate 70 to reach the ECDC site and perhaps the Crescent Junction site. Construction of highway entrance and exit facilities could be required to safely accommodate the high volume of traffic currently using this highway. Highway 191 is a main thoroughfare for commercial vehicles between Interstate 70 and the southwestern United States and receives seasonal tourist traffic. The State of Utah is currently in the design phase of widening the highway to four lanes from Moab north to State Highway 313. Construction for the first phase closest to Moab is tentatively scheduled for the spring of 2003.

Rail Transport. An existing rail line runs from the Moab Project Site north along U. S. Highway 191 and connects with the main east-west line near Interstate 70. The Klondike Flats, Crescent Junction, and ECDC disposal sites could be accessed from this rail line; however, the White Mesa Mill site could not, as there is no rail line extending south from the Moab Project Site. At the Moab Project Site, a railroad spur for loading rail cars would be constructed parallel with the main rail line. A covered conveyor system would be constructed from the tailings pile north across State Highway 279 to a train loading station that would be constructed on the rail siding. The extent of additional rail spur and haul roads needed would vary among the disposal sites.

Slurry Pipeline. This option would require the construction of a pipeline from the Moab Project Site to a disposal site. The tailings would be mixed with water at the Moab Project Site into a liquid (slurry) state, and pumped to drying beds at the disposal facility, where the slurry mixture would be dewatered prior to placement in the disposal cell. Reclaimed water would be returned through a second pipeline to the slurry mixing area of the Moab Project Site for reuse.

Ground Water Actions

Identification of the range of reasonable ground water remediation strategies that would achieve compliance with EPA ground water protection standards at the Moab Project Site for both on-site and off-site disposal alternatives will follow the framework defined in the Final Programmatic Environmental Impact Statement (PEIS) for the Uranium Mill Tailings Remedial Action Ground Water Project (DOE/EIS-0198), issued in October 1996, and a Record of Decision, issued April 28, 1997 (62 FR 22913-22916). The PEIS framework takes into consideration human health and environmental risk, stakeholder input, and cost. In applying the ground water remediation framework, DOE assesses ground water compliance in a step-by-step approach, beginning with consideration of a no-remediation strategy and proceeding, if necessary, to consideration of passive strategies, such as natural flushing with compliance monitoring and institutional controls, and finally to consideration of more complex, active ground water remediation methods, or a combination of strategies, if needed. This process has been used to support ground water remediation decisionmaking at 21 other UMTRCA Title 1 uranium mill tailings sites.

For the Moab Project Site, the process defined by the PEIS has begun, but is not yet complete. Therefore, the specific ground water remediation strategies to be assessed in this EIS have not yet been identified. Based on currently available characterization information, it appears likely that the remediation strategies may be specific to individual contaminants. For example, some contaminants may require no remediation to meet EPA's standards, and other contaminants may require natural flushing and/or active ground water remediation to meet the standards. DOE will continue to evaluate ground water characterization information for the on-site, off-site and no action alternatives, and apply the PEIS framework to identify the range of reasonable ground water strategies that will be included in the DEIS.

Floodplain and Wetlands Notice

The Moab Project Site is located within the 100- and 500-year floodplain designations of the Colorado River. A small section in the southeast section of the existing tailings pile falls within the 100-year floodplain.

U.S. Geological Survey data indicates that a 500-year flood would result in a water level 8 feet above the base of the existing tailings pile. The NAS identified severe flooding and changes in the river's path as an issue for the on-site disposal alternative.

Wetlands may be identified along the Colorado River, within riparian habitat, along the eastern boundary of the existing Site. Floodplain and wetland designations at alternative sites have not been completed, but will be evaluated in the EIS.

Executive Orders 11988 and 11990 mandate evaluation of Federal actions in floodplains and wetlands. The orders further require Federal agencies to issue regulations that include providing the public an opportunity to review proposals or plans for actions in floodplains or wetlands. DOE's floodplain and wetlands regulations are codified at 10 CFR part 1022. In compliance with requirements of the Executive Orders and regulations, this notice serves as notification for the public to provide comment on the proposed action and its potential to impact floodplains or wetlands. A separate notice will not be published in the Federal Register. Assessment of potential impacts to floodplain and wetlands will be included in the draft EIS, and a floodplain statement of findings will be included in the final EIS.

Identification of Environmental Issues

A primary purpose of this notice is to solicit comments and suggestions for consideration in the preparation of the EIS. As background for public comment, this notice contains a list of potential environmental issues that DOE has tentatively identified for analysis. This list is not intended to be all-inclusive or to imply any predetermination of impacts. Following is a preliminary list of issues that may be analyzed in the EIS:

• Ground water contamination mitigation and prevention;

• Impacts to human health and safety;

• Impacts to protected, threatened, endangered, or sensitive species of animals or plants, or their critical habitats;

• Impacts to floodplains and wetlands;

• Impacts to cultural or historic resources;

• Socioeconomic impacts;

• Impacts on air, soil, and water;

• Noise impacts;

• Visual impacts;

• Disproportionately high and adverse impacts to minority and low income populations;

• Long-term surveillance and maintenance of the site;

• Future land uses;

• Impacts from natural disasters such as climate change, flooding, or seismic events;

• Impacts to traffic and transportation systems;

• Cumulative impacts.

Cooperating Agencies

DOE is committed to working cooperatively with Federal, State, Tribal, and local governmental agencies and organizations to foster a collaborative approach to making decisions that affect local communities. In accordance with the Council on Environmental Quality's provisions for cooperating agencies (40 CFR 1501.6) and recent guidance, DOE has invited six Federal and five state agencies, and four Indian Tribes with jurisdiction or expertise to participate as cooperating agencies in preparing this EIS. The White Mesa Ute Tribe has agreed to participate as a cooperating agency. Any additional Federal or State agencies, tribes, or units of local government that desire to be designated as a cooperating agency should contact Mr. Berwick at the address listed above by February 14, 2003.

Scoping Process

The public scoping process is an opportunity for the public to assist DOE in determining the alternatives and issues for analysis. The scoping meetings will use a format to facilitate dialogue between DOE and the public and will be an opportunity for individuals to provide written or oral statements. DOE welcomes specific comments or suggestions on the content of these alternatives or on other alternatives that could be considered. The above list of issues to be considered in the EIS analysis is tentative and is intended to facilitate public comment on the scope of this EIS. Again, it is not intended to be all-inclusive, nor does it imply any predetermination of potential impacts. The EIS will analyze the potential environmental impacts of the alternatives, by using available data where possible, and by obtaining additional data where necessary. Copies of written comments and transcripts of oral comments will be available at the following locations: Grand County Library, 25 South 100 East, Moab, UT 84532 (Phone: (435) 259-5421) and DOE Grand Junction Office, Technical Library, 2597 B ¾ Road, Grand Junction, CO 81503 (Phone: (970) 248-6089):

Draft EIS Schedule and Availability

The DEIS is scheduled to be issued in January 2004, at which time its availability will be announced in the Federal Register and local media, and public comments will again be solicited. People who do not wish to submit comments or suggestions at this time, but who would like to receive a copy of the DEIS for review and comment when it is issued, should notify Mr. Berwick at the address, phone numbers, or e-mail address listed above. The DEIS will also be made available in the reading rooms listed above, on the project Web page at http://www.gjo.doe.gov/moab/moab.html, and on the DOE NEPA Web site at http://tis.eh.doe.gov/nepa/.

Issued in Washington, DC this 16th day of December, 2002.
Beverly A. Cook,
Assistant Secretary, Environment, Safety and Health.

[FR Doc. 02-32126 Filed 12-19-02; 8:45 am]

BILLING CODE 6450-01-P